DEPARTMENT OF THE TREASURY

Alcohol and Tobacco Tax and Trade Bureau

[TTB Notice No. 2; TTB O 1130.1]

Delegation Order—Delegation of the Administrator's Authorities in 27 CFR

To: All Bureau Employees and All Interested Parties

1. Purpose. This order delegates certain authorities of the Administrator, Alcohol and Tobacco Tax and Trade Bureau (TTB) to subordinate TTB officers and prescribes the subordinate TTB officers with whom persons file documents.

2. Background. a. On November 25, 2002, the President signed into law the Homeland Security Act of 2002, Public Law 107-296, 116 Stat. 2135 (2002). The Homeland Security Act of 2002 divided the Bureau of Alcohol, Tobacco and Firearms, Department of the Treasury, into two separate agencies, the Bureau of Alcohol, Tobacco, Firearms, and Explosives (ATF) in the Department of Justice, and the Tax and Trade Bureau (TTB) in the Department of the Treasury. This division of the former agency and division of its responsibilities into two new agencies took place 60 days after enactment of the Act on January 24, 2003.

b. The Homeland Security Act of 2002 provides that the newly established Tax and Trade Bureau be headed by an Administrator. It also provides that the authorities, functions, personnel and assets of the Bureau of Alcohol, Tobacco and Firearms that are not transferred to the Department of Justice shall be retained within the Department of the Treasury and administered by the Tax and Trade Bureau.

c. Pursuant to the duties and powers established by the Homeland Security Act of 2002, the Administrator of TTB is authorized to administer and enforce Chapters 51 (relating to distilled spirits, wine and beer) and 52 (relating to tobacco products and cigarette papers and tubes) of title 26, U.S.C., the Internal Revenue Code of 1986, as amended, sections 4181 and 4182 (relating to the excise tax on firearms and ammunition) of the Internal Revenue Code of 1986, and title 27, United States Code (relating to alcohol).

d. In addition, Treasury Order No. 120-1 (Revised) dated January 24, 2003 established the Tax and Trade Bureau within the Department of the Treasury and designated it as the Alcohol and Tobacco Tax and Trade Bureau (TTB). It directed that the head of TTB is the Administrator who shall exercise the authorities, perform the functions, and carry out the duties of the Secretary in the administration and enforcement of the laws cited in paragraph 2 c above.

e. Treasury Order No. 120-1 also grants the Administrator of TTB all authorities delegated to the Director of the Bureau of Alcohol, Tobacco and Firearms in effect on January 23, 2003, that are related to the administration and enforcement of the laws specified in paragraph 2 c. In addition, it grants the Administrator full authority, powers, and duties to administer the affairs of and to perform the functions of TTB, including, without limitation, all management and administrative authorities and responsibilities similarly granted and assigned to Bureau Heads or Heads of Bureaus in Treasury Orders and Treasury Directives.

f. Treasury Order No. 120-1 provides that all regulations adopted on or before January 23, 2003 for the administration and enforcement of the laws cited in paragraph 2 c above shall continue in effect until superseded or revised.

g. Through this delegation order the Administrator of TTB intends to redelegate certain authorities of the Administrator in Title 27 of the Code of Federal Regulations (CFR) to subordinate TTB officers.

3. Effective Date. This order is effective January 24, 2003.

4. Ratification. In addition to section 1512(a) of the Homeland Security Act of 2002, this order affirms and ratifies any action taken that is consistent with this order.

5. Delegations. a. Under the authority vested in the Administrator, Alcohol and Tobacco Tax and Trade Bureau, by the Homeland Security Act of 2002, Treasury Department Order No. 120-01 (Revised) dated January 24, 2003, and by 26 CFR 301.7701-9, this TTB order delegates certain authorities prescribed in 27 CFR to subordinate TTB officers. Also, this TTB order prescribes the subordinate officers with whom applications, notices, and reports required by 27 CFR are filed.

b. Accordingly, the following delegations of authority issued by the former Bureau of Alcohol, Tobacco and Firearms, Department of the Treasury relative to authorities in 27 CFR are hereby adopted by the Administrator, Alcohol and Tobacco Tax and Trade Bureau, Department of the Treasury, subject to the amendments and exceptions listed in Paragraph 6 of this order.

27 CFR Part 1

ATF Order 1130.6—Delegation of the Director's Authorities in 27 CFR PART 1, Date of Order: 9/15/99 (64 FR 50135)

27 CFR Parts 4, 5, and 7

ATF Order 1130.2A—Delegation of the Director's Authorities in 27 CFR Parts 4, 5, and 7, Labeling and Advertising of Wine, Distilled Spirits and Malt Beverages, Date of Order: 2/22/00 (65 FR 12054)

27 CFR Parts 6, 8, 10, and 11

ATF Order 1130.7— Delegation of the Director's Authorities in 27 CFR Parts 6, 8, 10 and 11, Date of Order: 8/28/00 (65 FR 52159)

27 CFR Part 13

ATF Order 1130.21—Delegation of the Director's Authorities in 27 CFR Part 13, Labeling Proceedings, Date of Order: 5/17/01 (66 FR 29884)

27 CFR Parts 17 and 18

ATF Order 1130.13—Delegation of the Director's Authorities in 27 CFR Parts 17 and 18, Date of Order: 8/23/01 (66 FR 47933)

27 CFR Parts 20, 21, and 22

ATF Order 1130.9—Delegation of the Director's Authorities in 27 CFR Parts 20, 21, and 22, Date of Order: 6/21/01 (66 FR 35511)

27 CFR Part 24

ATF Order 1130.5—Delegation of the Director's Authorities in 27 CFR Part 24, Wine, Date of Order: 3/22/99 (64 FR 13846)

27 CFR Part 25

ATF Order 1130.10—Delegation of the Director's Authorities in 27 CFR Part 25, Beer, Date of Order: 6/21/01 (66 FR 35509)

27 CFR Part 26

ATF Order 1130.29—Delegation of the Director's Authorities in 27 CFR Part 26, Liquors and Articles from Puerto Rico and the Virgin Islands, Date of Order: 7/18/02 (67 FR 49388)

27 CFR Part 29

ATF Order 1130.25—Delegation of the Director's Authorities in 27 CFR Part 29, Stills and Miscellaneous Regulations, Date of Order: 2/6/02 (67 FR 7447)

27 CFR Part 30

ATF Order 1130.17—Delegation of the Director's Authorities in 27 CFR Part 30, Gauging Manual, Date of Order: 5/25/01 (66 FR 30989)

27 CFR Part 44

ATF Order 1130.31—Delegation of the Director's Authorities in 27 CFR Part 44, Exportation of Tobacco Products and Cigarette Papers and Tubes, Without Payment of Tax, or With Drawback of Tax, Date of Order: 4/26/02 (67 FR 30994)

27 CFR Parts 45 and 46

ATF Order 1130.28—Delegation of the Director's Authorities in 27 CFR Parts 45 and 46, Date of Order: 2/15/02 (67 FR 9043)

27 CFR Part 53

ATF Order 1130.18—Delegation of the Director's Authorities in 27 CFR Part 53, Manufacturer's Excise Taxes—Firearms and Ammunition, Date of Order: 7/18/01 (66 FR 39226)

27 CFR Part 70

ATF Order 1130.19—Delegation of the Director's Authorities in 27 CFR Part 70, Procedure and Administration, Other Than Certain Offers in Compromise, Date of Order: 2/1/02 (67 FR 7448)

ATF O 1100.63F—Delegation of Authority to Accept or Reject Offers in Compromise, Date of Order: 3/8/94 (59 FR 11826)

27 CFR Part 251—[Recodified as 27 CFR Part 27]

ATF Order 1130.12—Delegation of the Director's Authorities in 27 CFR Part 251, Importation of Distilled Spirits, Wines and Beer, Date of Order: 3/5/02 (67 FR 11371)

27 CFR Part 252

ATF Order 1130.27—Delegation of the Director's Authorities in 27 CFR Part 252, Exportation of Liquors, Date of Order: 3/29/02 (67 FR 18300)

27 CFR Parts 270, 275, and 296

Partially cancelled ATF Order 1130.15—Delegation of Certain of the Director's Authorities in 27 CFR Parts 270, 275 and 296, Date of Order: 12/22/99 (64 FR 71850)

27 CFR Part 275

ATF Order 1130.16—Delegation of Certain of the Director's Authorities in 27 CFR Part 275, Date of Order: 6/30/00 (65 FR 42764)

6. Amendments and Exceptions. Under the new organizational structure established for the Alcohol and Tobacco Tax and Trade Bureau, several offices and positions referenced in the above delegation orders have been amended, revised or deleted. Listed below are amendments to the above listed delegation orders which reflect the new organizational structure of the TTB and changes in titles or offices.

Any references in the above listed orders to authorities granted to— | Are hereby replaced with the term—
Headquarters
Director, Bureau of Alcohol, Tobacco and Firearms | Administrator, Alcohol and Tobacco Tax and Trade Bureau.
Deputy Director | Deputy Administrator.
Assistant Director (Alcohol and Tobacco) | For headquarters matters: Assistant Administrator, Headquarters Operations. For field matters: Assistant Administrator, Field Operations.
Deputy Assistant Director (Alcohol and Tobacco) | For headquarters matters: Assistant Administrator, Headquarters Operations. For field matters: Assistant Administrator, Field Operations.
Assistant Director (Firearms, Explosives and Arson) | For headquarters matters: Assistant Administrator, Headquarters Operations. For field matters: Assistant Administrator, Field Operations.
Associate Director (Compliance Operations) | For headquarters matters: Assistant Administrator, Headquarters Operations. For field matters: Assistant Administrator, Field Operations.
Deputy Associate Director (Compliance Operations) | For headquarters matters: Assistant Administrator, Headquarters Operations. For field matters: Assistant Administrator, Field Operations.
Deputy Assistant Director (Field Operations) | Deputy Assistant Administrator, Field Operations.
Division Chief in the Office of Alcohol and Tobacco, or Division Chief (Alcohol and Tobacco) | Division Chief in Headquarters Operations.
Chief, Regulations Division | Chief, Regulations and Procedures Division.
Chief, Alcohol and Tobacco Programs Division | Chief, Trade Investigations Division.
Chief, Diversion Branch | Any Division Chief in Headquarters or Field Operations.
Chief, Alcohol Import/Export Branch | Chief, International Trade Division.
Chief, Market Compliance Branch | With respect to advertising: Specialist, Advertising, Labeling and Formulation Division. With respect to interlocking directorates: Chief, Trade Investigations Division.
Specialist, Market Compliance Branch | Specialist, Advertising, Labeling and Formulation Division.
Division Chief (Compliance) | Division Chief in Headquarters Operations.
Chief, Financial Management Division | CFO/Assistant Administrator, Management.
Chief, Acquisition and Property Management Division | Chief, Regulations and Procedures Division.
Chief, Document Services Branch | Assistant Chief, Regulations and Procedures Division (Knowledge Management).
Chief, Revenue Programs Division | Chief, Regulations and Procedures Division.
Chief, Revenue Division | Unit Supervisor (FAET), National Revenue Center.
Alcohol Labeling and Formulation Division and Predecessors
Chief, Alcohol Labeling and Formulation Division (ALFD) | Chief, Advertising, Labeling and Formulation Division.
Assistant to the Chief, Alcohol Labeling and Formulation Division (ALFD) | Assistant Chief, Advertising, Labeling and Formulation Division.
Specialist, Alcohol Labeling and Formulation Division (ALFD) | Specialist, Advertising, Labeling and Formulation Division.
Alcohol Labeling Specialist | Specialist, Advertising, Labeling and Formulation Division.
Clerk, Alcohol Labeling and Formulation Division (ALFD) | Clerk, Advertising, Labeling and Formulation Division.
Chief, Product Compliance Branch | Assistant Chief, Advertising, Labeling and Formulation Division.
Specialist, Product Compliance Branch | Specialist, Advertising, Labeling and Formulation Division.
Chief, Formula and Processing Section | Assistant Chief, Advertising, Labeling and Formulation Division.
Specialist, Formula and Processing Section | Specialist, Advertising, Labeling and Formulation Division.
Field Offices
Division Director/Special Agent in Charge | Chief, Trade Investigations Division or Chief, Tax Audit Division.
Resident Agent in Charge/Group Supervisor | Supervisor, Trade Investigations Group ¹ or Supervisor, Tax Audit Group.¹
Director, Industry Operations | Chief, National Revenue Center.
Area Supervisor | Unit Supervisor, National Revenue Center, or Supervisor, Trade Investigations Group ¹ or Supervisor, Tax Audit Group.¹
Inspector | Specialist, National Revenue Center or Investigator ¹ or Auditor.¹
Special Agent | Investigator ¹ or Auditor.¹
Regional Director | Chief, National Revenue Center.
Regional Director (Compliance) | Chief, National Revenue Center.
Audit Manager | Supervisor, Tax Audit Group.¹
National Revenue Center and Technical Services
Chief, Revenue Section, NRC | Chief, National Revenue Center.
Chief, Tax Processing Center | Chief, National Revenue Center.
Chief, Technical Services | Section Chief, National Revenue Center.
Technical Section Supervisor | Unit Supervisor, National Revenue Center.
Specialist | Specialist, National Revenue Center.
Laboratory
Chief, Laboratory Services | Chief, Alcohol and Tobacco Laboratory.
Chemist, ATF Laboratory | Chemist, Alcohol and Tobacco Laboratory.
Other Titles
An ATF supervisor in the Office of Alcohol and Tobacco or Firearms, Explosives and Arson | Chief, Regulations and Procedures Division.
Clerk in the Office of Alcohol and Tobacco | Specialist, National Revenue Center.
¹ Field officials are not able to receive materials by mail—all mail should be sent to the National Revenue Center official until further notice.

7. Redelegation. The authorities delegated in this order may not be redelegated.

8. Questions. If you have a question about this order, contact the Regulations and Procedures Division (202-927-8210).

Arthur J. Libertucci,
Administrator.

BILLING CODE 4810-31-P

[FR Doc. 03-2933 Filed 2-5-03; 8:45 am]

BILLING CODE 4810-31-C